DEPARTMENT OF TRANSPORTATION

Federal Aviation Administration

Twenty-Fifth Meeting: RTCA Special Committee (217) Aeronautical Databases (Joint With EUROCAE WG-44)

AGENCY: Federal Aviation Administration (FAA), U.S. Department of Transportation (DOT).

ACTION: Notice of twenty-fifth RTCA Special Committee 217 meeting.

SUMMARY: The FAA is issuing this notice to advise the public of the Twenty-Fifth RTCA Special Committee 217 meeting.

DATES: The meeting will be held February 9-11, 2016 from 9:00 a.m.-5:00 p.m.

ADDRESSES: The meeting will be held at Jeppesen Office, Frankfurter Str. 233, 63263 Neu-Isenburg, Germany, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 217. The agenda will include the following:

Tuesday, February 9, 2016 (Opening Plenary Session)

1. Co-Chairmen's remarks and introductions

2. Approve minutes from 24th meeting

3. Review and approve meeting agenda for 25th meeting

4. Schedule for this week

Tuesday-Thursday, February 9-11, 2016 (WG Sessions)

1. Review of WG-44/SC-217 ToR and discussion on the scope of the work

2. Review of current ED-77/DO-201A

a. Other related standards and initiatives

3. ICAO-FAA-EU SES—EUROCAE/RTCA standards—ARINC 424

4. Summary and conclusions on the updates to be made

5. Organization of the updating effort, working arrangements and implementation

Thursday, February 11, 2016 (Closing Plenary Session)

1. Review of the ISRA with SC-206

2. Meeting wrap-up: main conclusions and way forward

3. Review of action items and next meetings

4. Any other business and adjourn

Attendance is open to the interested public but limited to space availability. Use https://jeppesen.wufoo.com/forms/z1chez2i1oitnrp/ to register to attend. With the approval of the chairman, members of the public may present oral statements at the meeting. Plenary information will be provided upon request. Persons who wish to present statements or obtain information should contact the person listed in the FOR FURTHER INFORMATION CONTACT section. Members of the public may present a written statement to the committee at any time.

Issued in Washington, DC, on January 11, 2016.
Latasha Robinson,
Management & Program Analyst, NextGen, Enterprise Support Services Division, Federal Aviation Administration.

[FR Doc. 2016-00624 Filed 1-13-16; 8:45 am]

BILLING CODE 4910-13-P